DEPARTMENT OF COMMERCE

National Oceanic and Atmospheric Administration

RIN 0648-XH101

Fisheries of the South Atlantic, Gulf of Mexico, and Caribbean; Southeast Data, Assessment, and Review (SEDAR); Public Meeting

AGENCY: National Marine Fisheries Service (NMFS), National Oceanic and Atmospheric Administration (NOAA), Commerce.

ACTION: Meeting of the SEDAR Steering Committee.

SUMMARY: The SEDAR Steering Committee will meet via webinar to discuss the NOAA Fisheries Southeast Fishery Science Center (SEFSC) Gulf of Mexico Surveys Marine Recreational Information Program white paper. See SUPPLEMENTARY INFORMATION.

DATES: The SEDAR Steering Committee webinar will be held August 26, 2019, from 10 a.m. to 11 a.m., Eastern Time.

ADDRESSES: The meeting will be held via webinar. The webinar is open to members of the public. Those interested in participating should contact John Carmichael (see FOR FURTHER INFORMATION CONTACT) to request an invitation providing webinar access information. Please request webinar invitations at least 24 hours in advance of each webinar.

SEDAR address: 4055 Faber Place Drive, Suite 201, North Charleston, SC 29405; www.sedarweb.org.

FOR FURTHER INFORMATION CONTACT: John Carmichael, Deputy Executive Director, South Atlantic Fishery Management Council (SAFMC), 4055 Faber Place Drive, Suite 201, North Charleston, SC 29405; phone: (843) 571-4366 or toll free (866) SAFMC-10; fax: (843) 769-4520; email: john.carmichael@safmc.net.

SUPPLEMENTARY INFORMATION: The SEDAR Steering Committee provides guidance and oversight of the SEDAR program and manages assessment scheduling. The items of discussion for this meeting are as follows:

SEDAR Steering Committee Webinar, Monday, August 26, 2019, 10 a.m.-11 a.m.

SEFSC Gulf Surveys MRIP White Paper

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is accessible to people with disabilities. Requests for auxiliary aids should be directed to the SAFMC office (see ADDRESSES) at least 5 business days prior to the meeting.

Note: The times and sequence specified in this agenda are subject to change.

Authority: 16 U.S.C. 1801 et seq.

Dated: July 15, 2019.
Tracey L. Thompson,
Acting Deputy Director, Office of Sustainable Fisheries, National Marine Fisheries Service.

[FR Doc. 2019-15320 Filed 7-18-19; 8:45 am]

BILLING CODE 3510-22-P